DEPARTMENT OF VETERANS AFFAIRS

[OMB Control No. 2900-0768]

Agency Information Collection Activity: Program of Comprehensive Assistance for Family Caregivers Improvements and Amendments Under the VA MISSION Act of 2018

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 14, 2020.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0768” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Program of Comprehensive Assistance for Family Caregivers Improvements and Amendments Under the VA MISSION Act of 2018, VA Form 10-10CG.

OMB Control Number: 2900-0768.

Type of Review: Revision of a currently approved collection.

Abstract: Pursuant to RIN 2900-AQ48, the Department of Veterans Affairs (VA) has proposed revisions to its regulations that govern VA's Program of Comprehensive Assistance for Family Caregivers (PCAFC). That rulemaking would make improvements to PCAFC and update the regulations to comply with section 161 of Public Law 115-182, the John S. McCain III, Daniel K. Akaka, and Samuel R. Johnson VA Maintaining Internal Systems and Strengthening Integrated Outside Networks (MISSION) Act of 2018, or the VA MISSION Act of 2018, which made changes to PCAFC's authorizing statute. The proposed changes would allow PCAFC to better address the needs of veterans of all eras and standardize the current program to focus on eligible veterans with moderate and severe needs.

This proposed rule—

• Would expand PCAFC to eligible veterans of all service eras, as specified.

• Would define new terms and revise existing terms used throughout the regulation. Some of the new and revised terms would have a substantial impact on eligibility requirements for PCAFC (e.g., in need of personal care services; need for supervision, protection, or instruction; and serious injury), and the benefits available under PCAFC (e.g., financial planning services, legal services, and monthly stipend rate).

• Would establish an annual reassessment to determine continued eligibility for PCAFC.

• Would revise the stipend payment calculation for Primary Family Caregivers.

• Would establish a transition plan for legacy participants and legacy applicants who may or may not meet the new eligibility criteria and whose Primary Family Caregivers could have their stipend amount impacted by changes to the stipend payment calculation.

• Would add financial planning and legal services as new benefits available to Primary Family Caregivers.

• Would revise the process for revocation and discharge from PCAFC.

• Would reference VA's ability to collect overpayments made under PCAFC.

The background for PCAFC and this information collection resides in Title I of Public Law (Pub. L.) 111-163, Caregivers and Veterans Omnibus Health Services Act of 2010 (hereinafter referred to as “the Caregivers Act”), which established section 1720G(a) of title 38 of the United States Code (U.S.C.) “Assistance and Support Services for Caregivers.” Section 1720G required VA to establish a Program of Comprehensive Assistance for Family Caregivers (PCAFC) of eligible veterans. The Caregivers Act also required VA to establish a Program of General Caregiver Support Services (PGCSS) that is available to caregivers of covered veterans of all eras. VA implemented the PCAFC and the PGCSS through its regulations in part 71 of title 38 of the Code of Federal Regulations (CFR). Through PCAFC, VA provides family caregivers of eligible veterans (as defined in 38 CFR 71.15) certain benefits, such as training, respite care, counseling, technical support, beneficiary travel (to attend required caregiver training and for an eligible veteran's medical appointments), a monthly stipend payment, and access to health care coverage (if qualified) through the Civilian Health and Medical Program of the Department of Veterans Affairs (CHAMPVA). 38 U.S.C. 1720G(a)(3), 38 CFR 71.40.

In order to administer these benefits to caregivers, it is necessary that VA receive information about the nature of the benefit being sought and the persons who will be serving as primary or secondary family caregivers and receiving benefits. This information is collected with VA Form 10-10CG, which is currently approved under Office of Management and Budget (OMB) Control Number 2900-0768. Additional information will be collected by VA when a participating veteran provides required notice of a change of address and will be added to OMB Control Number 2900-0768.

VA Form 10-10CG

Affected Public: Individuals and households.

Estimated Annual Burden: 15,694 hours.

Estimated Average Burden per Respondent: 15 minutes.

Frequency of Response: Once annually.

Estimated Annual Number of Respondents: 62,776.

Veteran Change of Address Notification

Affected Public: Individuals and households.

Estimated Annual Burden: 542 hours.

Estimated Average Burden per Respondent: 10 minutes.

Frequency of Response: On occasion.

Estimated Annual Number of Respondents: 3,250.

By direction of the Secretary.
Danny S. Green,
PRA Clearance Officer, Office of Quality, Performance and Risk (OQPR), Department of Veterans Affairs.

[FR Doc. 2020-15247 Filed 7-14-20; 8:45 am]

BILLING CODE 8320-01-P